DEPARTMENT OF TRANSPORTATION

Federal Transit Administration

Environmental Impact Statement: Fulton County and Cobb County, Georgia

AGENCY: Federal Transit Administration (FTA), Department of Transportation (DOT).

ACTION: Notice of intent to prepare an Environmental Impact Statement.

SUMMARY: The Federal Transit Administration (FTA) is issuing this notice to advise agencies and the public that, in accordance with the National Environmental Policy Act, an Alternatives Analysis/Environmental Impact Statement (EIS) is being prepared for a proposed transportation improvement in the Metropolitan Atlanta Region's Northwest Corridor. Located in Fulton and Cobb counties, the proposed Northwest Corridor would extend between an Atlanta connection with the existing MARTA rail line (at Arts Center, Midtown or Bankhead stations) and the Town Center/Kennesaw State University activity center area in Cobb County. The corridor is centered on US 41, I-75 and the W&A (CSX) Railroad. The corridor boundaries are roughly defined by Midtown Atlanta on the south, Powers Ferry Road on the northeast, Georgia 280 (Hamilton E. Holmes Drive/James Jackson Parkway/South Cobb Drive) on the southwest and Town Center on the north. The lead agency will also seek the cooperation of the Federal Highway Administration (FHWA), the U.S. Fish and Wildlife Service (USFWS), the U.S. Army Corps of Engineers (USCOE), the U.S. Environmental Protection Agency (USEPA), and the Federal Railroad Administration (FRA) in conducting this review.

DATES: Comment Due Date: Written comments on the scope of the alternatives and the impacts to be considered should be sent to Sylvia Greer, State & Community Affairs Specialist, at GRTA 404-463-2430; TDD phone number 711 by July 11, 2002. Scoping Meetings: GRTA will conduct three (3) identical public scoping meetings and an agency scoping meeting. The public scoping meetings will be held on Monday, June 10, 2002 in two locations, as follows: Kennesaw State University Center, Kennesaw, Georgia 11 a.m; and the Smyrna Community Center, Smyrna, Georgia 7 p.m. and on Tuesday, June 11, 2002 at the Carl E. Sanders YMCA in Buckhead at 6:30 p.m. The agency scoping meeting will be held on June 27, 2002 at 2 p.m. in the GRTA Board Room. The locations of the scoping meetings are accessible to persons with disabilities and open to all members of the community. Any individual with a disability who requires special assistance, such as a sign language interpreter, to participate in the scoping meetings should contact Sylvia Greer, State & Community Affairs Specialist, at GRTA 404-463-2430; TDD phone number 711 by June 9, 2002.

ADDRESSES: To be added to the mailing list or to provide written comments, please contact Sylvia Greer, State & Community Affairs Specialist, at GRTA, 245 Peachtree Center Avenue, NE, Suite 900, Atlanta, Georgia 30329, phone 404-463-2430. The dates and addresses of the scoping meetings are given in the DATES section above.

FOR FURTHER INFORMATION CONTACT: Mr. Tony Dittmeier, Transportation Program Specialist, Federal Transit Administration 404-562-3512, or Mr. Crew Heimer, Manager of Passenger Rail, Georgia Regional Transportation Authority (GRTA) 404-463-3054.

SUPPLEMENTARY INFORMATION:

I. Scoping

FTA, in cooperation with GRTA, will prepare an Alternatives Analysis (AA)/Environmental Impact Statement (EIS) to examine alternative improvement strategies to enhance transit access and mobility, respond to projected growth and increased traffic congestion, and address regional air quality issues. A Project Advisory Committee, representing local jurisdictions and key community leaders will provide guidance to GRTA on local decisions. Input received during the EIS scoping meetings will be summarized and provided to the Advisory Committee and the GRTA Board prior to the final selection of a Locally Preferred Alternative, which will include the selection of a preferred mode and alignment.

The following alternatives will be evaluated in the Environmental Impact Statement: a No-Build Alternative, Transportation Systems Management Alternative, and one or more mass transit Build Alternatives.

Scoping activities will include public meetings and an agency scoping meeting during the month of June 2002, and correspondence and discussions with interested persons, organizations, as well as federal, state and local agencies.

The Federal Transit Administration (FTA) and Georgia Regional Transportation Authority (GRTA) invite all interested individuals and organizations, and federal, state, and local agencies to provide comments on the scope of the study. During the scoping process, comments should focus on defining the alternatives to be studied in the EIS, identifying specific social, economic, or environmental issues to be evaluated, and suggesting alternatives that may be less costly or have less environmental impact, while achieving similar transportation objectives. A Scoping Information Booklet will be circulated to all federal, state, and local agencies having jurisdiction in the project and all interested parties currently on the Northwest Connectivity Study mailing list. The Scoping Information Booklet will be available at the meetings or in advance of the meetings by contacting Sylvia Greer, State & Community Affairs Specialist, at GRTA, as indicated above in Addresses.

During Scoping, comments should focus on identifying the range of reasonable alternatives that should be considered and not stating a preference for a particular alternative. Individual preference for an alternative should be communicated during the comment period for the Draft EIS. Scoping comments may be made at the public scoping meetings listed above in the Dates section of this notice or in writing within 30-days of this notice to the individual in the Addresses section of this notice.

The comments received during the public scoping meeting will be summarized and provided to the Project Advisory Committee, which will make a formal scoping decision on the alternatives to be carried forward in the EIS and the scope of the study in conjunction with selecting a Locally Preferred Alternative.

II. Description of Study Area and Project Needs

The purpose of the project is to identify a transportation solution that provides additional choices for travelers within and through the corridor. The identified transportation solution should decrease the vehicle miles traveled in the region, decrease emissions and, in turn, alleviate Atlanta's severe non-attainment status for air quality. To accomplish this, the proposed project will explore transportation alternatives that reduce the number of vehicle miles traveled; will enhance mobility within and through the corridor; will improve air quality; will increase connectivity between major activity centers; and will provide opportunities for integrating the existing and proposed land uses along the corridor with a transportation investment that maximizes transit and land use benefits within the northwest corridor of Metropolitan Atlanta. The additional travel choices and mode connectivity should provide travel along the study corridor, improved accessibility to jobs and essential activities within the region, and services throughout the corridor for all of the greater Atlanta region's citizens.

The project is to identify alternatives to address an increase in travel demand from projected increases in population and employment growth throughout the Northwest Corridor between the City of Atlanta and Town Center. Roadways in the corridor are currently congested and are projected to operate with moderate to severe congestion by 2015 (level of service C, D, and F), limited in both capacity and within existing rights-of-way. The number of vehicle miles traveled in the corridor has increased by 42 percent between 1990 and 2000 and contributes to poor air quality. Existing transit service in the corridor is limited and currently focused on serving work-based trips between Cobb County and the region's core.

III. Alternatives

A brief description of the initial alternatives is provided below:

No-Build Alternative. This Alternative consists of highway and transit system existing as of the year 2002, plus projects programmed for construction in the FY 2003-2005 Transportation Improvement Program adopted by the Atlanta Regional Commission, the region's metropolitan planning organization.

Transportation Systems Management Alternative. This Alternative consists of all reasonable cost-effective [low-cost, operationally oriented] transit improvements included in the region's current, constrained long-range transportation plan, the 2025 Regional Transportation Plan.

Build Alternatives. One or more mass transit Build Alternatives providing service between the existing MARTA Arts Center station and the Town Center activity center will be evaluated. The mass transit Build Alternatives may include express bus, bus rapid transit, light rail transit, heavy rail transit, or commuter rail. Ancillary facilities, such as maintenance garages, rail yards, and parking facilities will be considered, as appropriate, for the mass transit Build Alternatives.

Scoping meetings, stakeholder interviews, and written comments will be sources of additional alternatives for consideration in this study.

IV. Probable Effects/Potential Impacts for Analysis

The purpose of the EIS process is to fully disclose the environmental consequences associated with each of the alternatives being evaluated. FTA and GRTA will assess all social, economic, and environmental impacts of the No-Build, TSM, and Build Alternatives selected for detailed evaluation at the end of the Alternative Analysis phase. Impacts may include the following: land use, zoning, and economic development; secondary development; cumulative impacts; land acquisition, displacements and relocation of existing uses; historic, archaeological and cultural resources; parklands and recreation areas; visual and aesthetic qualities; neighborhoods and environmental justice; air quality; noise and vibration; contaminated materials; ecosystems; water resources; energy; construction impacts; safety and security; finance; and transportation impacts. The impacts will be evaluated both for the construction period and for the long-term operation of each alternative. Measures to avoid, minimize or mitigate any significant adverse impacts will be identified.

V. FTA Procedures

FTA and GRTA invite comments on the content of the EIS related to the proposed project in order to ensure that the full range of issues and concerns of the public, interested parties, and federal, state, and local agencies are addressed. Comments are invited from all parties and should be directed to the name listed in the Addresses section above within the time frame set forth in the Dates section above.

In accordance with the federal transportation planning regulations (23 CFR part 450) and the federal environmental impact regulations and related procedures (23 CFR part 771), the DEIS will be prepared to include an evaluation of the social, economic, and environmental impacts of the alternatives. Upon completion, the DEIS will be available for public and agency review and comment. Public hearing(s) will be held on the DEIS within the study area. The DEIS will also constitute the Alternatives Analysis required by the New Starts regulations.

The Final EIS will consider comments received during the DEIS public review process and will identify the preferred alternative.

Issued on: May 9, 2002.
Jerry Franklin,
Regional Administrator, Atlanta, Georgia.

[FR Doc. 02-12124 Filed 5-14-02; 8:45 am]

BILLING CODE 4910-57-P